NUCLEAR REGULATORY COMMISSION

Exemption From the Requirement for a Specific License To Import Radioactive Waste

Pursuant to 10 CFR 110.70(C) “Public notice of receipt of an application,” please take notice that the Nuclear Regulatory Commission (NRC) has received the following request for either a specific import license or an exemption from the requirement for a specific import license. Copies of the request are available electronically through ADAMS and can be accessed through the Public Electronic Reading Room (PERR) link http://www.nrc.gov/NRC/ADAMS/index.html at the NRC Homepage.

The NRC intends to issue an exemption from the requirement for a specific license and authorize use of the NRC general license after determining that the import described below:

• Is authorized by law;

• Is not inimical to the common defense and security of the United States; and

• Will not constitute an unreasonable risk to the public health and safety.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

Information concerning the exemption from the requirement for a specific import license is as follows.

NRC Exemption From the Requirement for a Specific Import License
Name of applicant, Date of application, Date received, Application No., Docket No. | Description of material: Material type | Description of material: Total quantity | End use | Supplier
AREVA NP Inc., October 31, 2006, November 7, 2006, IW020, 11005660 | Packing materials from containers used to ship low enriched uranium dioxide powder to Canada as authorized by NRC export licenses | The quantity and characteristics of packing materials returned will be consistent with those used for AREVA's exports to Canada | The packing materials will be dispositioned as waste generated by AREVA in accordance with applicable U.S. requirements | Zircatec Precision Industries, Canada.

Dated this 10th day of January 2007 at Rockville, Maryland.
For the Nuclear Regulatory Commission.
Margaret M. Doane,
Deputy Director, Office of International Programs.

[FR Doc. E7-713 Filed 1-18-07; 8:45 am]

BILLING CODE 7590-01-P